DEPARTMENT OF DEFENSE

Department of the Air Force

[USAF-2007-0011]

Privacy Act of 1974; System of Records

AGENCY: Department of the Air Force, DoD.

ACTION: Notice to add a system of records.

SUMMARY: The Department of the Air Force proposes to add a system of records notice to its inventory of records systems subject to the Privacy Act of 1974 (5 U.S.C. 552a), as amended.

DATES: The actions will be effective on March 5, 2007 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 588-7855.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on January 24, 2007 to the House Committee on Government Reform, the Senate Committee on Homeland Security and Governmental Affairs, and the Office of Management and Budget (OMB) pursuant to paragraph 4c of Appendix I to OMB Circular No. A-130, `Federal Agency Responsibilities for Maintaining Records About Individuals,’ dated February 8, 1996 (February 20, 1996, 61 FR 6427).

Dated: January 29, 2007.
C.R. Choate,
Alternate Federal Register Liaison Officer, Department of Defense.

F061 AFMC B DoD

SYSTEM NAME:

Biosciences and Protection Epidemiological Database.

System location:

Headquarters, Air Force Material Command (AFMC), Biosciences and Protection Division, Human Effectiveness Directorate, Air Force Research Laboratory/HEP, 2800 Q Street, Wright-Patterson Air Force Base, OH 45433-7947.

Categories of individuals covered by the system:

Members of the U.S. Armed Forces and Department of Defense civilian employees who potentially have occupational exposures associated with adverse health outcomes.

Categories of records in the system:

Name, Social Security Number or service number, Sex, Race, Date of Birth, pay grade, rank, assigned unit identification (UIC), service affiliation (Army, Navy, Marines, Air Force, Coast Guard) and component (Active Duty, Guard, Reserve); occupational information, including personnel type and occupation, date and extent of involvement in military deployments or related operations, occupationally-related health issues and exposure information, medical treatment information and information on worker's compensation and Veteran's Affairs disabilities.

Self-reported information from service members may include demographic information, health outcomes, health-related behaviors, and occupational exposure information. Records of biomechanical and ergonomically evaluations for specific system members or duty locations may be included.

Authority for maintenance of the system:

10 U.S.C. 131, Office of the Secretary of Defense; 10 U.S.C. 136, Under Secretary of Defense for Personnel and Readiness; and E.O. 9397 (SSN).

Purpose(s):

Information is collected for purposes of aeromedical and occupational health research for Department of Defense military and civilian employee populations.

Routine uses of records maintained in the system, including categories of users and the purposes of such uses:

In addition to those disclosures generally permitted under 5 U.S.C. 552(b) of the Privacy Act, these records or information contained therein may specifically be disclosed outside the Department of Defense as a routine use pursuant to 5 U.S.C. 552a(b)(3) as follows:

To Federal Aviation Administration, Department of Veterans Affairs, The National Institutes of Health, National Research Council, Occupational Safety and Health Administration, and collaborating academic institutions for purposes of defining health risks associated with military service and in the development of methods to prevent disease, injury, and disability.

The Department of Defense ‘Blanket Routine Uses’ published at the beginning of the Air Force's compilation of systems of records notices also apply to this system.

Policies and practices for storing, retrieving, accessing, retaining, and disposing of records in the system:

Storage:

Paper records and on electronic storage media.

Retrievability:

By individual's name, Social Security Number or service number.

Safeguards:

Authorized medical personnel and scientists are properly screened and cleared for need-to-know; computer patient records retrievable from remote terminals are protected from unauthorized access or alteration by a data management system requiring a password for access to an authorized subset of data; database management system permits scientists to examine patient records without revealing the unique patient identifiers; records are stored in locked rooms and cabinets; records maintained in computer storage devices are protected by computer system software in accordance with Federal, Department of Defense, and Air Force policy.

Retention and disposal:

Paper, microfilm, and electronic files will be destroyed when no longer needed. Paper and microfilm records are destroyed by tearing into pieces, shredding, pulping, macerating or burning.

System manager(s) and address:

Chief, Biomechanics Branch, Air Force Research Laboratory, Headquarters Air Force Material Command (AFMC), 2800 Q Street, Wright-Patterson Air Force Base, OH 45433-7947.

Notification procedure:

Individuals seeking to determine whether this system of records contains information about themselves should address written inquiries to the Chief, Biomechanics Branch, Biosciences and Protection Division, Human Effectiveness Directorate, Air Force Research Laboratory, Headquarters Air Force Material Command (AFMC), 2800 Q Street, Wright-Patterson Air Force Base, OH 45433-7947.

For written inquiries, individuals should provide their full name, Social Security Number or service number, current address, and telephone number in a notarized document.

For personal visits, the hours of operation are 0800-1500. Individuals should provide current and valid photo identification.

Record access procedures:

Individuals seeking access to records about themselves should address written inquiries to the Chief, Biomechanics Branch, Biosciences and Protection Division, Human Effectiveness Directorate, Air Force Research Laboratory, Headquarters Air Force Material Command (AFMC), 2800 Q Street, Wright-Patterson Air Force Base, OH 45433-7947.

For written inquiries, individuals should provide their full name, Social Security Number or service number, current address, and telephone number in a notarized document.

For personal visits, the hours of operation are 0800-1500. Individuals should provide current and valid photo identification.

Contesting record procedures:

The Air Force rules for accessing records, and for contesting contents and appealing initial agency determinations are published in Air Force Instruction 33-332, Privacy Act Program; 32 CFR part 806b; or may be obtained from the system manager.

Record source categories:

Information is obtained from the subject of the record, military personnel records, and other medical records.

Exemptions claimed for the system:

None.

[FR Doc. E7-1722 Filed 2-1-07; 8:45 am]

BILLING CODE 5001-06-P